DEPARTMENT OF COMMERCE

National Oceanic and Atmospheric Administration

[I.D.031400C]

Marine Fisheries Advisory Committee; Public Meetings

AGENCY: National Marine Fisheries Service (NMFS), National Oceanic and Atmospheric Administration (NOAA), Commerce.

ACTION: Notice of public meetings.

SUMMARY: Notice is hereby given of meetings of the Marine Fisheries Advisory Committee (MAFAC) from April 18 - 20, 2000.

DATES: The meetings are scheduled as follows:

1. April 18, 2000, 8:00 a.m. - 5:00 p.m.

2. April 19, 2000, 8:00 a.m. - 5:00 p.m.

3. April 20, 2000, 8:00 a.m. - 3:00 p.m.

ADDRESSES: The meetings will be held at The Westin Francis Marion Hotel, 387 King Street, Charleston, South Carolina. Requests for special accommodations may be directed to MAFAC, Office of Operations, Management and Information, NMFS, 1315 East-West Highway, Silver Spring, Maryland 20910.

FOR FURTHER INFORMATION CONTACT: Elizabeth Lu Cano, Designated Federal Officer; telephone: (301) 713-2252.

SUPPLEMENTARY INFORMATION: As required by section 10(a) (2) of the Federal Advisory Committee Act, 5 U.S.C. App. (1982), notice is hereby given of meetings of MAFAC and MAFAC Subcommittees. MAFAC was established by the Secretary of Commerce (Secretary) on February 17, 1972, to advise the Secretary on all living marine resource matters that are the responsibility of the Department of Commerce. This Committee ensures that the living marine resource policies and programs of the Nation are adequate to meet the needs of commercial and recreational fisheries, and of environmental, state, consumer, academic, and other national interests.

Matters to Be Considered

April 18, 2000

Multi-Disciplinary Science, Legislative, Budget, and Fisheries Overcapacity Subcommittee Meetings

April 19, 2000

Outreach/Communications Work Group and Vessel Monitoring Work Group Meeting, Steering Committee Views Paper Scoping Meeting, and TEAMWARE: Quick Place Program Presentation

April 20, 2000

Steering, Budget, Legislative, Multi-Disciplinary Science and Fisheries Overcapacity Committees, and Vessel Monitoring Systems, and Outreach/Communications Work Groups Reports and Recommendations

Time will be set aside for public comment on agenda items.

Special Accommodations

These meetings are physically accessible to people with disabilities. Requests for sign language interpretation or other auxiliary aids should be directed to MAFAC (see ADDRESSES).

Dated: March 16, 2000.
Andrew A. Rosenberg,
Deputy Assistant Administrator, National Marine Fisheries Service.

[FR Doc. 00-7217 Filed 3-22-00; 8:45 am]

BILLING CODE 3510-22-F